DEPARTMENT OF THE INTERIOR

Fish and Wildlife Service

[FWS-HQ-IA-2013-N072; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
69463A | Denver Zoological Foundation | 77 FR 41198; July 12, 2012 | February 22, 2012.
69465A | Denver Zoological Foundation | 77 FR 41198; July 12, 2012 | February 22, 2012.
88568A | The Living Desert | 77 FR 66476; November 5, 2012 | February 12, 2013.
91717A | Thomas Archipley | 77 FR 74506; December 14, 2012 | March 4, 2013.
90697A | Stephen Dunbar, Loma Linda University | 78 FR 4162; January 18, 2013 | March 15, 2013.
724540 | Archie Carr Center for Sea Turtle Research | 78 FR 5481; January 25, 2013 | March 12, 2013.

Marine Mammals
Permit No. | Applicant | Receipt of application Federal Register notice | Permit issuance date
134593 and 134595 | Point Defiance Zoo and Aquarium | 71 FR 53464; September 11, 2006 | March 13, 2013.
73634A | Seward Association for the Advancement of Marine Science, Alaska SeaLife Center | 77 FR 70457; November 26, 2012 | March 8, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-06596 Filed 3-21-13; 8:45 am]

BILLING CODE 4310-55-P